FEDERAL COMMUNICATIONS COMMISSION

Notice of Public Information Collection Being Reviewed by the Federal Communications Commission for Extension Under Delegated Authority, Comments Requested

March 5, 2010.

SUMMARY: The Federal Communications Commission, as part of its continuing effort to reduce paperwork burden invites the general public and other Federal agencies to take this opportunity to comment on the following information collection(s), as required by the Paperwork Reduction Act of 1995, 44 U.S.C. 3501-3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Persons wishing to comments on this information collection should submit comments on or before May 14, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC).

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-1003.

Title: Communications Disaster Information Reporting System (DIRS).

Form No.: N/A.

Type of Review: Extension of a currently approved collection.

Respondents: Business or other for-profit and not-for-profit institutions.

Number of Respondents: 3,900 respondents for updated and new contact information (3,200 for updated contact information and 700 for new contacts); 300 respondents for critical information input. Total number of respondents is 4,200.

Estimated Time Per Response: 0.1 hours for updated or new contact information; 0.5 hours for initial input of critical information; and 0.1 hours for daily updates of critical information.

Frequency of Response: On occasion and annual reporting requirements. Annual requirement is for updated contact information. For critical information, the information is requested on a daily basis during a declared emergency and activation of the Disaster Information Reporting System (DIRS). The information is updated daily until the emergency ends, on average about 10 days per emergency. Three emergencies requiring data collection through DIRS are assumed to occur per year.

Obligation to Respond: Voluntary. Statutory authority for this collection of information is contained in 47 U.S.C. sections 154(i), 218, and 303(r).

Total Annual Burden: 390 hours for new and updated contact information; 1,160 hours for critical information input = 1,650 total annual burden hours.

Privacy Act Impact Assessment: N/A.

Nature and Extent of Confidentiality: Because the information input to DIRS is sensitive, for national security and/or commercial reasons, DIRS filings are non-public and treated as presumptively confidential upon filing. DIRS filings will, however, be shared with the National Communications System (NCS) and other Federal agencies authorized to participate in Emergency Support Function-2 (ESF-2) (Communications) of the National Response Framework.

Need and Uses: The Commission will submit this expiring information collection to the Office of Management and Budget (OMB) after this 60 day comment period in order to obtain the full three year clearance from them. The Commission is requesting an extension (no change in the reporting requirements). The Commission has reduced the information collection burden for this expiring collection which is due to fewer respondents.

This collection as currently approved by OMB is need to be able to reach emergency contact personnel at key telecommunications providers (such as wireline, wireless, broadcast, cable and satellite entities) during an emergency to assess the status of their facilities and network(s), and to determine appropriate agency response.

DIRS is an electronic database that telecommunications providers can access via the Internet to voluntarily enter and update emergency contact information and, in the event of an actual emergency, infrastructure and network status and damage information and/or resource requirements. In the event of a natural disaster or other emergency event, the DIRS database may be used to contact communications providers in affected areas and to inform them that DIRS has been activated and they can input data into DIRS, to further determine the extent of any damage and to gauge the appropriate agency response.

The Commission needs to continue OMB approval for this information collection in order to perform its homeland security and public safety functions as required by the Communications Act of 1934, as amended; coordinate DIRS data with the Department of Homeland Security's National Communications System (NCS) in support of NCS's role as the primary agency for ESF-2 (Communications) of the National Response Framework; and coordinate DIRS data with other Federal agencies authorized to participate in ESF-2 (Communications) of the National Response Framework.

Federal Communications Commission.
Marlene H. Dortch,
Secretary,
Office of the Secretary,
Office of Managing Director.

[FR Doc. 2010-5497 Filed 3-12-10; 8:45 am]

BILLING CODE 6712-01-S